DEPARTMENT OF JUSTICE

Notice of Lodging of Consent Decree Under the Comprehensive Environmental Response, Compensation and Liability Act

Notice is hereby given that on September 12, 2005, a proposed Consent Decree in United States v. E.I. Du Pont de Nemours and Company, et al. Civil Action No. 1:03CV29 (and related case E.I. Du Pont de Nemours and Company v. United States, Civil Action No. 1:02CV177) was lodged with the United States District Court for Northern District of West Virginia.

In the United States v. DuPont, et al. action, the United States seeks the recovery of response costs incurred in connection with Ordinance Works Disposal Areas Superfund Site, located in Morgantown, West Virginia (Site ID number WV000850404). The United States' original complaint, filed in 2003, named only DuPont as a defendant; an amended complaint that was filed simultaneously with the proposed consent decree, adds as defendants EPEC Polymers, Inc., General Electric Company, Olin Corporation, and Rockwell Automation. In the Amended Complaint the United States alleges that each defendant owned and/or operated the Site at the time of disposal or treatment, and/or arranged for the disposal and/or treatment of wastes containing hazardous substances at the Site, within the meaning of 42 U.S.C. 9607(a).

Under the proposed consent decree EPEC Polymers, Olin Corp. and Rockwell Automation (the defendants who performed the remedial action at the Site, or the “Performing Defendants”) will reimburse to EPA past response costs paid at the Site in the amount of $1,532,174.65, plus interest. Further, under the proposed Consent Decree, the United States, on behalf of the United States Army and other federal departments and agencies, shall: (1) Reimburse to EPA past response costs in the amount of $1,760,700.17; and (2) reimburse the Performing Defendants their past response costs in the amount of $2,420,082.80 plus interest. Additionally, under the proposed consent decree the United States, on behalf of the Settling Federal Agencies, has committed to paying EPA and the State of West Virginia 53.47% of their future response costs, and the Performing Defendants have committed to paying EPA and the State of West Virginia 46.53% of their future response costs. Because the United States, pursuant to a judicial decision, is required to indemnify DuPont for costs it incurred in connection with the Ordnance Works Site, DuPont will not be making a payment under this Decree.

The Department of Justice will receive for a period of thirty (30) days from the date of this publication comments relating to this Consent Decree in United States v. DuPont, et al. Comments should be addressed to the Assistant Attorney General, Environment and Natural Resources Division, P.O. Box 7611, U.S. Department of Justice, Washington, DC 20044-7611, and should refer to United States v. DuPont, et al., D.J. Ref. 90-11-2-369/2.

The United States v. DuPont, et al. Consent Decree may be examined at the Office of the United States Attorney for the Northern District of West Virginia, at the Clarksburg Federal Center, 320 West Pike Street, Suite 300, Clarksburg, West Virginia 26301-2710 (ask for Alan McGonigal) and at U.S. EPA Region III's Office, 1650 Arch Street, Philadelphia, PA (ask for Andrew Goldman). During the public comment period, the United States v. DuPont, et al. consent decree, may also be examined on the following Department of Justice Web site, http:www.usdoj.gov/enrd/open/html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $55.00 (25 cents per page reproduction cost) for a full copy of the consent decree, or $14.00, for a copy without signature pages, and attachments, payable to the U.S. Treasury.

Robert Brook,
Assistant Chief, Environmental Enforcement Section, Environment and Natural Resources Division.

[FR Doc. 05-19404 Filed 9-28-05; 8:45 am]

BILLING CODE 4410-15-M